ENVIRONMENTAL PROTECTION AGENCY

40 CFR Part 180

[EPA-HQ-OPP-2015-0230; FRL-10007-81]

RIN 2070-ZA16

Banda de Lupinus Albus Doce (BLAD); Proposal To Revoke Exemption and Establish Pesticide Tolerances; Reopening of Comment Period

AGENCY: Environmental Protection Agency (EPA).

ACTION: Proposed rule; reopening of comment period.

SUMMARY: EPA issued a proposed rule in the Federal Register of February 11, 2020, concerning the revocation of an existing tolerance exemption and establishment of pesticide tolerances for residues of the fungicide BLAD. This document reopens and extends the comment period to July 12, 2020. Consumo Em Verde S.A., Biotecnologia De Plantas, Parque Technologico de Cantanhede (CEV) formally requested a 90-day extension of the public comment period to permit it reasonable time to respond to the proposed rule.

DATES: Comments, identified by docket identification number EPA-HQ-OPP-2015-0230, must be received on or before July 12, 2020.

ADDRESSES: Follow the detailed instructions provided under ADDRESSES in the Federal Register document of February 11, 2020 (85 FR 7698) (FRL-9998-74).

FOR FURTHER INFORMATION CONTACT: Anne Overstreet, Deputy Director, Biopesticides and Pollution Prevention Division (7511P), Office of Pesticide Programs, Environmental Protection Agency, 1200 Pennsylvania Ave. NW, Washington, DC 20460-0001; main telephone number: (703) 305-7090; email address: BPPDFRNotices@epa.gov.

SUPPLEMENTARY INFORMATION: This document reopens the public comment period established in the Federal Register document of February 11, 2020 (85 FR 7698) (FRL-9998-74). In that document, EPA is proposing to revoke the existing exemption from the requirement of a tolerance for residues of the fungicide BLAD in or on all food commodities that was established in the Federal Register of March 22, 2013 (78 FR 17600) (FRL-9380-6). In place of the exemption, EPA is proposing to establish tolerances for residues of the fungicide BLAD at the level of quantitation, i.e., 0.02 parts per million (ppm), in or on the following commodities: Almond; almond, hulls; fruit, pome, group 11-10; fruit, stone, group 12-12; grape; hops, dried cones; strawberry; vegetable, cucurbit, group 9; and vegetable, fruiting, group 8-10. In order to provide additional time for comments, EPA is hereby reopening the comment period that ended on April 13, 2020, such that it now ends on July 12, 2020.

To submit comments, or access the docket, please follow the detailed instructions provided under ADDRESSES in the Federal Register document of February 11, 2020. If you have questions, consult the person listed under FOR FURTHER INFORMATION CONTACT.

List of Subjects in 40 CFR Part 180

Environmental protection, Administrative practice and procedure, Agricultural commodities, Pesticides and pests, Reporting and recordkeeping requirements.

Dated: April 14, 2020.
Richard Keigwin,
Director, Office of Pesticide Programs.

[FR Doc. 2020-08192 Filed 4-20-20; 8:45 am]

BILLING CODE 6560-50-P